DEPARTMENT OF STATE

[Public Notice 6061]

Notice of Availability of the Final Environmental Impact Statement for the Proposed TransCanada Keystone Pipeline Project

AGENCY: Department of State.

ACTION: Notice of Availability of the Final Environmental Impact Statement (FEIS) for the Proposed TransCanada Keystone Pipeline Project.

SUMMARY: This notice advises the public that the Department of State intends to file a Final Environmental Impact Statement (FEIS) for the Proposed TransCanada Keystone Pipeline Project with the U.S. Environmental Protection Agency (EPA) and that the FEIS is now available to the public for review. The proposed action is the granting by the Department of State of a Presidential permit to TransCanada Keystone Pipeline, LLC (“Keystone”) for the construction, operation, and maintenance of pipeline facilities at the border of the U.S. and Canada for the transport of crude oil across the U.S.-Canada international boundary. The pipeline would enter the United States at the U.S.-Canada border in North Dakota and travel through South Dakota, Nebraska, Kansas, Missouri, Illinois, and Oklahoma.

SUPPLEMENTARY INFORMATION: On April 19, 2006, TransCanada Keystone Pipeline, LLC (“Keystone”) filed an application for a Presidential permit for the construction, operation, and maintenance of pipeline facilities at the border of the U.S. and Canada for the transport of crude oil across the U.S.-Canada international boundary. Keystone has requested authorization to construct and operate the border crossing facilities at the U.S.-Canada border at Cavalier County, North Dakota, in connection with its proposed international pipeline project (the “Keystone pipeline project”), which is designed to transport incremental Canadian crude oil production from the Western Canadian Sedimentary Basin (“WCSB”) to an existing refinery in Wood River, Illinois, and existing terminals in Patoka, Illinois, and Cushing, Oklahoma.

The Secretary of State is designated and empowered to receive all applications for Presidential permits, as referred to in Executive Order 13337, as amended, for the construction, connection, operation, or maintenance, at the borders of the United States, of facilities for the exportation or importation of petroleum, petroleum products, coal, or other fuels to or from a foreign country.

The FEIS was prepared to satisfy the requirements of the National Environmental Policy Act (NEPA) and to evaluate the potential environmental impacts of the proposed Keystone pipeline project. The document also evaluates alternatives to the proposal, including system alternatives and pipeline route alternatives. The FEIS contains the Department's response to timely comments received on the draft EIS that was made available to the public for review on August 9, 2007 (72 FR 44908). The FEIS also discloses that the proposed action is the preferred alternative of the Department of State.

As noted in the October 11, 2006, Notice of Intent To Prepare an Environmental Impact Statement and To Conduct Scoping Meetings for the TransCanada Keystone Pipeline (71 FR 59849), the Department of State used the scoping process to help identify consulting parties and historic preservation issues for consideration under Section 106 of the National Historic Preservation Act and its implementing regulations (36 CFR part 800).

The FEIS addresses the potential environmental effects of the construction and operation of the United States portion of the Keystone Pipeline Project. In total, the Keystone Project would consist of the Mainline Project (approximately 1,078 miles of pipeline in the United States) and the Cushing Extension (293.5 miles of pipeline in the United States). Including the Cushing Extension, the total length of pipeline in the United States would be 1,371.5 miles.

The FEIS describes and evaluates the U.S. portion of the proposed Keystone Project, including both the Mainline Project and Cushing Extension, and the additional facilities required to increase throughput capacity of the pipeline to 591,000 bpd.

U.S. States and counties that could possibly be affected by construction of the proposed pipeline, including the proposed Cushing extension, are:

• North Dakota: Pembina, Cavalier, Walsh, Nelson, Steele, Barnes, Ransom, Dickey, and Sargent;

• South Dakota: Marshall, Brown, Day, Clark, Beadle, Kingsbury, Miner, Hanson, McCook, Hutchinson, and Yankton;

• Nebraska: Cedar, Wayne, Stanton, Platte, Colfax, Butler, Seward, Saline, Jefferson, and Gage;

• Kansas: Marshall, Nemaha, Brown, Washington, Clay, Dickinson, Marion, Butler, Cowley, and Doniphan;

• Missouri: Buchanan, Clinton, Caldwell, Carroll, Chariton, Randolph, Audrain, Montgomery, Lincoln, and St. Charles;

• Illinois: Madison, Bond, Fayette, Marion, and Clinton; and

• Oklahoma (under a possible future extension): Kay, Noble, and Payne.

Copies of the FEIS have been mailed to interested federal, state and local agencies; public interest groups; individuals and affected landowners who requested a copy of the FEIS or who provided substantive comments on the draft EIS; libraries; newspapers; and other stakeholders.

The Department intends to issue its Record of Decision (ROD) for the Keystone Pipeline Project no earlier than 30 days after the Environmental Protection Agency publishes a Notice of Availability for the FEIS in the Federal Register.

FOR FURTHER INFORMATION CONTACT: The TransCanada Keystone Pipeline application for a Presidential Permit, including associated maps and drawings; the FEIS; a list of libraries where the FEIS may be viewed; and other project information is available for viewing and download at the project Web site: http//www.keystonepipeline.state.gov.

Those wishing to comment on the FEIS, to request a CD-ROM copy of the final EIS or with additional questions, please contact Elizabeth Orlando, OES/ENV Room 2657, U.S. Department of State, Washington, DC 20520, or by telephone (202) 647-4284, or by fax at (202) 647-5947.

Issued in Washington, DC, on January 3, 2008.
Stephen J. Gallogly,
Director, International Energy and Commodity Policy, Department of State.

[FR Doc. E8-434 Filed 1-11-08; 8:45 am]

BILLING CODE 4710-07-P